DEPARTMENT OF THE INTERIOR

Bureau of Land Management

[NV-060-3809]

Notice of Availability for the Ruby Hill Mine Expansion—East Archimedes Project Final Supplemental Environmental Impact Statement; A Proposed Expansion of Existing Gold Mining/Processing Operations in Eureka County, NV

AGENCY: Bureau of Land Management.

Cooperating Agencies: Nevada Department of Wildlife and Eureka County.

ACTION: Notice of availability for the Ruby Hill Mine Expansion—East Archimedes Final Supplemental Environmental Impact Statement.

SUMMARY: Pursuant to section 102(2)(c) of the National Environmental Policy Act of 1969 and the Council on Environmental Quality Regulations found at 40 CFR 1500-1508, notice is hereby given of the availability of the Final Supplemental Environmental Impact Statement for comment, prepared by the Battle Mountain Field Office of the Bureau of Land Management (BLM). The statement analyzes the environmental effects of the Proposed Action and the No Action Alternatives.

DATES: Written comments must be post-marked or otherwise delivered by 4:30 p.m. (Pacific time zone) by no later than 30 days after the date of publication of this Notice in the Federal Register.

Comments, including names and addresses or respondents, will be available for public review at the above address during regular business hours, Monday-Friday, excluding holidays. Individual respondents may request confidentiality. If you wish to withhold your name or street address from public review or from disclosure under the Freedom of Information Act, you must state this prominently at the beginning of your written comment. However, we will not consider anonymous comments. Such requests to withhold your name or street address from public review will be honored to the extent allowed by law. All submissions from organizations or business, and from individuals identifying themselves as representatives of officials of organizations or businesses, will be available for public inspection in their entirety. A limited number of copies of the Final Supplemental EIS may be obtained at the Battle Mountain BLM Field Office.

ADDRESSES: Written comments should be addressed to the Bureau of Land Management, attn: Caleb Hiner, Battle Mountain Field Office, 50 Bastian Road, Battle Mountain, Nevada 89820.

FOR FURTHER INFORMATION CONTACT: Caleb Hiner, Battle Mountain BLM at (775) 635-4052.

SUPPLEMENTARY INFORMATION: The Proposed Action would develop the East Archimedes deposit which was defined in the original EIS (approved February 3, 1997) as a Reasonably Foreseeable Future Action. The Proposed Action would consist of an extension of the existing pit, expansion of the existing west and east waste rock disposal areas, the expansion of the existing heap leach pad, and construction of dewatering facilities. Under the Proposed Action an estimated additional 744 acres of disturbance would occur, all disturbance proposed under the expansion falls within the footprint of the project boundary as analyzed in the original EIS.

Gerald M. Smith,
Field Manager.

[FR Doc. 05-16951 Filed 8-25-05; 8:45 am]

BILLING CODE 4310-HC-P